SECURITIES AND EXCHANGE COMMISSION

[Release No. 34-44662; File No. 4-208]

Intermarket Trading System; Notice of Filing of the Eighteenth Amendment to the ITS Plan Relating to the Pacific Exchange, Inc.'s Implementation of the ARCA Facility

August 8, 2001.

Pursuant to section 11A of the Securities Exchange Act of 1934 (“Act”),¹ and Rule 11A3a3-2 thereunder,² notice is hereby given that on July 24, 2001, the Intermarket Trading System Operating Committee (“ITSOC”) submitted to the Securities and Exchange Commission (“Commission”) a proposed amendment (“Eighteenth Amendment”) to the restated ITS Plan.³ The purpose of the proposed amendment is to: (1) eliminate provisions relating to the PCX's Remote Specialists; and (2) recognize the PCX's implementation of the Archipelago (“ARCA”) Facility. The Commission is publishing this notice to solicit comment on the proposed amendment from interested persons.

¹ 15 U.S.C. 78k-1.

² 17 CFR 240.11Aa3-2.

³ The ITS is a National Market System (“NMS”) plan, which was designed to facilitate intermarket trading in exchange-listed equity securities based on current quotation information emanating from the linked markets. See Securities Exchange Act Release No. 19456 (January 27, 1983), 48 FR 4938 (February 3, 1983).

The ITS Participants include the American Stock Exchange LLC (“Amex”), the Boston Stock Exchange, Inc. (“BSE”), the Chicago Board Options Exchange, Inc. (“CBOE”), the Chicago Stock Exchange, Inc. (“CHX”), the Cincinnati Stock Exchange, Inc. (“CSE”), the National Association of Securities Dealers, Inc. (“NASD”), the New York Stock Exchange, Inc. (“NYSE”), the Pacific Exchange, Inc. (“PCX”), and the Philadelphia Stock Exchange, Inc. (“PHLX”) (“Participants”).

I. Description of the Amendment

The proposed amendment deletes provisions of the ITS Plan relating to PCX's Remote Specialists.⁴ In addition, the proposed amendment recognizes the PCX's implementation of the ARCA Facility. The proposed amendment defines “ARCA Facility” as the computerized electronic facility for the trading of equity securities at the PCX, through its wholly owned subsidiary, the PCX Equities, Inc. (“PCXE”).⁵ The proposed amendment also defines the “ARCA Facility Supervisory Center” as the premises of the PCX at which the ITS supervisory stations are located, which monitor the PCX's Participant Market.

⁴ See ITS Plan, Sections 1(33B1) (defining “PCX Coordinating Specialist”), 1(33C) (defining “PCX Regular Specialist”), 1(33D) (defining “PCX Remote Specialist”), and 1(33E) (defining “PCX Registered Specialist”).

⁵ See PCXE Rule 7.1(a)(3) (defining term “facilities” or “trading facilities”).

The ITSOC proposes to amend the ITS Plan in various sections to incorporate the usage of the ARCA Facility and the ARCA Facility Supervisory Center. In particular, the ITS Plan would be amended to include references to the ARCA Facility and the ARCA Facility Supervisory Center regarding ITS supervisory stations, the receipt of quotations, the description of ITS transactions, commitment information, implementation obligations of the pre-opening application, system access, and the operational parameters for the ARCA Facility.⁶

⁶ See ITS Plan, Section 1 (“Definitions”); Section 5 (“The System”); Section 6 (“ITS”); Section 7 (“Pre-Opening Application”); and Section 8 (“Participants' Implementation Obligations”) (proposing to incorporate the usage of the ARCA Facility and the ARCA Facility Supervisory Center on the PCX in these sections, respectively).

II. Solicitation of Comments

Interested persons are invited to submit written data, views and arguments concerning the foregoing, including whether the proposed Plan amendment is consistent with the Act. Persons making written submissions should file six copies thereof with the Secretary, Securities and Exchange Commission, 450 Fifth Street, NW., Washington, DC 20549-0609. Copies of the submission, all subsequent amendments, all written statements with respect to the proposed Plan amendment that are filed with the Commission, and all written communications relating to the proposed Plan amendment between the Commission and any person, other than those that may be withheld from the public in accordance with the provisions of 5 U.S.C. 552, will be available for inspection and copying in the Commission's Public Reference Room. Copies of such proposed Plan Amendment will also be available for inspection and copying at the principal office of the ITS. All submissions should refer to File No. 4-208 and should be submitted by September 6, 2001.

For the Commission, by the Division of Market Regulation, pursuant to delegated authority.⁷
⁷ 17 CFR 200.30-3(a)(29).
Margaret H. McFarland,
Deputy Secretary.

[FR Doc. 01-20627 Filed 8-15-01; 8:45 am]

BILLING CODE 8010-01-M